DEPARTMENT OF HEALTH AND HUMAN SERVICES

National Institutes of Health

National Heart, Lung, and Blood Institute; Notice of Meeting

Pursuant to section 10(d) of the Federal Advisory Committee Act, as amended (5 U.S.C. App.), notice is hereby given of a meeting of the Sleep Disorders Research Advisory Board.

The meeting will be open to the public as indicated below, with attendance limited to space available. Individuals who plan to attend and need special assistance, such as sign language interpretation or other reasonable accommodations, should notify the Contact Person listed below in advance of the meeting.

The meeting will be closed to the public in accordance with the provisions set forth in section 552b(c)(6), Title 5 U.S.C., as amended because the premature disclosure of other and the discussions would likely to significantly frustrate implementation of recommendations.

Name of Committee: Sleep Disorders Research Advisory Board.

Date: May 30-31, 2012.

Open: May 30, 2012, 8:00 a.m. to 11:30 a.m.

Agenda: To discuss and provide updates on sleep and circadian research developments and the NIH sleep research plan. Members of the public unable to attend the meeting in person may hear the public portion of all discussions by dialing 800-779-2692, access code 3088143#.

Place: National Institutes of Health, 6701 Rockledge Drive, 9th Floor Conference Facility, Bethesda, MD 20892.

Closed: May 30, 2012, 11:30 a.m. to 12:00 p.m.

Agenda: To review and evaluate to nominate and select the next member to serve as Chair.

Place: National Institutes of Health, 6701 Rockledge Drive, 9th Floor Conference Facility, Bethesda, MD 20892.

Open: May 30, 2012, 12:30 p.m. to 5:00 p.m.

Agenda: To discuss and provide updates on sleep and circadian research developments and the NIH sleep research plan.

Place: National Institutes of Health, 6701 Rockledge Drive, 9th Floor Conference Facility, Bethesda, MD 20892.

Open: May 31, 2012, 8:00 a.m. to 12:00 p.m.

Agenda: To discuss and provide updates on sleep and circadian research developments and the NIH sleep research plan.

Place: National Institutes of Health, 6701 Rockledge Drive, 9th Floor Conference Facility, Bethesda, MD 20892.

Contact Person: Michael J. Twery, Ph.D., Director, National Center on Sleep Disorders Research, Division of Lung Diseases, National Heart, Lung, and Blood Institute, National Institutes of Health, 6701 Rockledge Drive, Suite 10038, Bethesda, MD 20892-7952, 301-435-0199, twerym@nhlbi.nih.gov.

Any interested person may file written comments with the committee by forwarding the statement to the Contact Person listed on this notice. The statement should include the name, address, telephone number and when applicable, the business or professional affiliation of the interested person.

Information is also available on the Institute's/Center's home page: www.nhlbi.nih.gov/meetings/index.htm, where an agenda and any additional information for the meeting will be posted when available.

(Catalogue of Federal Domestic Assistance Program Nos. 93.233, National Center for Sleep Disorders Research; 93.837, Heart and Vascular Diseases Research; 93.838, Lung Diseases Research; 93.839, Blood Diseases and Resources Research, National Institutes of Health, HHS)

Dated: May 4, 2012.
Jennifer S. Spaeth,
Director, Office of Federal Advisory Committee Policy.

[FR Doc. 2012-11310 Filed 5-9-12; 8:45 am]

BILLING CODE 4140-01-P